DEPARTMENT OF HEALTH AND HUMAN SERVICES

National Committee on Vital and Health Statistics: Teleconference

Pursuant to the Federal Advisory Committee Act, the Department of Health and Human Services (HHS) announces the following advisory committee meeting.

Name: National Committee on Vital and Health Statistics (NCVHS), Full Committee Teleconference.

Time and Date: 3:00 p.m.-5:00 p.m. (EDT) May 15, 2014.

Place: Teleconference—scheduled to begin at 3:00 p.m. Eastern Daylight Savings Time. To participate in the teleconference, please use the following url http://www.ncvhs.hhs.gov/ to take you to the NCVHS homepage where registration information and the link to join the call will be available.

Status: Open, however teleconference access limited only by availability of telephone ports. There will be a verbal comment period during the final 15 minutes of the teleconference. The public is also welcome to submit written comments in advance of the meeting to Terri Deutsch whose contact information is written below. Written comments received by May 13, 2014, will be included in the official record of the meeting.

Purpose: The NCVHS has been named in the Patient Protection and Affordable Care Act (ACA) of 2010 to review and make recommendations on several operating rules and standards related to HIPAA transactions. This meeting will support these activities in the development of a set of recommendations for the Secretary, as required by § 1104 of the ACA.

The purpose of this teleconference of the full committee of the NCVHS is to discuss and vote for approval three letters addressed to the Secretary of Health and Human Services. The matters to be discussed are: (1) Letter regarding the Electronic Standards for Public Health Information Exchange. The purpose of this letter is to provide observations and recommendations from the NCVHS regarding the current state of health informatics standards used by public health and population health programs; (2) A recommendation letter that focuses on the findings from the February 19, 2014 NCVHS Hearing on Prescriber Prior Authorization for Pharmacy Benefits, Health Plan Identifier (HPID), Electronic Fund Transfer (EFT)/Electronic Remittance Advice (ERA), and Remaining Operating Rules; and (3) A letter emphasizing NCVHS's long-standing position on the adoption of ICD-10 code sets in the US.

Contact Person for More Information: Debbie Jackson, Interim Executive Secretary, NCVHS, National Center for Health Statistics, Centers for Disease Control and Prevention, 3311 Toledo Road, Room 2402, Hyattsville, Maryland 20782, telephone (301) 458-4614; Written comments should be sent directly to Terri Deutsch, lead staff for the Standards Subcommittee, NCVHS, Centers for Medicare and Medicaid Services, Office of E-Health Standards and Services, 7500 Security Boulevard, Mailstop S2-26-17, Baltimore, Maryland 21244, email Terri.Deutsch@cms.hhs.gov, phone (410) 786-9462.

Program information as well as summaries of meetings and a roster of committee members are available on the NCVHS home page of the HHS Web site: http://www.ncvhs.hhs.gov/, where further information including an agenda will be posted when available.

Dated: April 23, 2014.
James Scanlon,
Deputy Assistant Secretary for Planning and Evaluation, Office of the Assistant Secretary for Planning and, Evaluation.

[FR Doc. 2014-09903 Filed 4-30-14; 8:45 am]

BILLING CODE 4151-05-P